DEPARTMENT OF COMMERCE

Foreign-Trade Zones Board

[S-52-2022]

Approval of Subzone Status, Coreworks Heat Exchangers, LLC, Waller, Texas

On April 5, 2022, the Executive Secretary of the Foreign-Trade Zones (FTZ) Board docketed an application submitted by the Port of Houston Authority, grantee of FTZ 84, requesting subzone status subject to the existing activation limit of FTZ 84, on behalf of Coreworks Heat Exchangers, LLC, in Waller, Texas.

The application was processed in accordance with the FTZ Act and Regulations, including notice in the Federal Register inviting public comment (87 FR 21092, April 11, 2022). The FTZ staff examiner reviewed the application and determined that it meets the criteria for approval.

Pursuant to the authority delegated to the FTZ Board Executive Secretary (15 CFR Sec. 400.36(f)), the application to establish Subzone 84AG was approved on May 26, 2022, subject to the FTZ Act and the Board's regulations, including Section 400.13, and further subject to FTZ 84's 2,000-acre activation limit.

Dated: May 26, 2022.
Andrew McGilvray,
Executive Secretary.

[FR Doc. 2022-11765 Filed 5-31-22; 8:45 am]

BILLING CODE 3510-DS-P